COMMITTEE FOR PURCHASE FROM PEOPLE WHO ARE BLIND OR SEVERELY DISABLED

Procurement List; Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes a product and service previously furnished by such agencies.

DATES: Comments must be received on or before November 19, 2017.

ADDRESSES: Committee for Purchase From People Who Are Blind or Severely Disabled, 1401 S. Clark Street, Suite 715, Arlington, Virginia 22202-4149.

FOR FURTHER INFORMATION CONTACT: For further information or to submit comments contact Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type: Custodial Service

Mandatory for: U.S. Army Reserve, Melvin Y Mora USARC, Bldgs. 30, 40, 41 & 44, 191 Soldiers Drive, St. Charles, MO

Mandatory Source(s) of Supply: MGI Services Corporation, St. Louis, MO

Contracting Activity: Dept of the Army, W6QM MICC Ft McCoy (RC)

Deletions

The following product and service are proposed for deletion from the Procurement List:

Product

NSN(s)—Product Name(s): 8470-00-NSH-0031—Center Mounted Weapon Harness

Mandatory Source(s) of Supply: Employment Source, Inc., Fayetteville, NC

Contracting Activity: Army Contracting Command—Aberdeen Proving Ground, Natick Contracting Division

Service

Service Type: Janitorial/Custodial Service

Mandatory for: GSA, Parking Facilities: Spring and Pearl Streets, Columbus, OH

Mandatory Source(s) of Supply: VGS, Inc., Cleveland, OH

Contracting Activity: GSA, Public Buildings Service, Acquisition Management Division

Amy B. Jensen,
Director, Business Operations.

[FR Doc. 2017-22823 Filed 10-19-17; 8:45 am]

BILLING CODE 6353-01-P